DEPARTMENT OF AGRICULTURE

Agricultural Marketing Service

[Docket No. DA-98-03]

United States Standards for Dry Whey

AGENCY: Agricultural Marketing Service, USDA.

ACTION: Notice.

SUMMARY: This document gives notice of the availability of revisions to the United States Standards for Dry Whey. The changes will: lower the bacterial estimate of not more than 50,000 per gram to not more than 30,000 per gram; incorporate maximum scorched particle content as a requirement for U.S. grade; expand the “Test Methods” section to allow product evaluation using the latest methods included in the Standard Methods for Examination of Dairy Products, in the Official Methods of Analysis of the Association of Official Analytical Chemists, and in standards developed by the International Dairy Federation; reference the Food and Drug Administration's requirements for dry whey; and make editorial changes that would provide consistency with other U.S. grade standards for dairy products.

EFFECTIVE DATE: This notice is effective December 14, 2000.

ADDRESSES: The revised Standards are available from Duane R. Spomer, Chief, Dairy Standardization Branch, Dairy Programs, Agricultural Marketing Service, U.S. Department of Agriculture, Room 2746, South Building, Stop 0230, P.O. Box 96456, Washington, DC 20090-6456 or at www.ams.usda.gov/dairy/stand.htm.

FOR FURTHER INFORMATION CONTACT: Duane R. Spomer, (202) 720-7473.

SUPPLEMENTARY INFORMATION: Section 203(c) of the Agricultural Marketing Act of 1946, as amended, directs and authorizes the Secretary of Agriculture “to develop and improve standards of quality, condition, quantity, grade, and packaging and recommend and demonstrate such standards in order to encourage uniformity and consistency in commercial practices * * *.” AMS is committed to carrying out this authority in a manner that facilitates the marketing of agricultural commodities and will make copies of official standards available upon request. The United States Standards for Dry Whey no longer appear in the Code of Federal Regulations (CFR); however, they are maintained by USDA.

AMS is revising the United States Standards for Dry Whey using the procedures it published in the August 13, 1997, Federal Register and that appear in Parts 36 of Title 7 of the CFR.

The notice, which included a request for comments on the proposed changes, was published in the Federal Register on June 20, 2000 (65 FR 38235-38239), and a correction to the notice was published in the Federal Register on July 17, 2000 (65 FR 44024-44025).

The current United States Standards for Dry Whey have been in effect since October 1, 1990. AMS initiated a review of this standard and discussed possible changes with the dairy industry. The American Dairy Products Institute, a trade association representing the dry whey industry, provided specific suggestions, including a suggestion to lower the maximum bacterial content requirement. AMS proposed other changes to reflect improvements in the quality of dry whey that have occurred since the standards were last revised and to promote greater uniformity and consistency in the application of this standard.

AMS published the notice in the Federal Register with an outline of the specific proposed changes and provided a comment period of 60 days, which ended on August 21, 2000.

The American Dairy Products Institute filed a comment supporting the proposed changes. No other comments were received.

AMS discovered a typographical error in the ZIP code for the Association of Official Analytical Chemists. The ZIP code that appears in the “Test Methods” section of the revised standard should read 20877-2417. Accordingly, the notice revising the United States Standards for Dry Whey published in the Federal Register at 65 FR 38235-38239 on June 20, 2000, the notice of correction published in the Federal Register at 65 FR 44024-44025 on July 17, 2000, and the correction to the ZIP code as made above are incorporated in the revised United States Standards for Dry Whey.

The revised United States Standards for Dry Whey are available either through the above address or by accessing AMS Home Page on the Internet at www.ams.usda.gov/dairy/stand.htm.

Authority: 7 U.S.C. 1621-1627.

Dated: November 7, 2000.
Kenneth C. Clayton,
Associate Administrator, Agricultural Marketing Service.

[FR Doc. 00-29024 Filed 11-13-00; 8:45 am]

BILLING CODE 3410-02-P